DEPARTMENT OF THE TREASURY

Internal Revenue Service

26 CFR Part 1

[REG-106750-10]

RIN 1545-BJ30

Modifications of Debt Instruments; Hearing Cancellation

AGENCY: Internal Revenue Service (IRS), Treasury.

ACTION: Cancellation of notice of public hearing on proposed rulemaking.

SUMMARY: This document cancels a public hearing on proposed rulemaking relating to the modification of debt instruments.

DATES: The public hearing, originally scheduled for Wednesday, September 8, 2010, at 10 a.m., is cancelled.

FOR FURTHER INFORMATION CONTACT: Richard A. Hurst of the Publications and Regulations Branch, Legal Processing Division, Associate Chief Counsel (Procedure and Administration), at Richard.A.Hurst@irscounsel.treas.gov.

SUPPLEMENTARY INFORMATION: A notice of public hearing that appeared in the Federal Register on Friday, June 4, 2010 (75 FR 31736), announced that a public hearing was scheduled for September 8, 2010, at 10 a.m., in the auditorium, Internal Revenue Building, 1111 Constitution Avenue, NW., Washington, DC. The subject of the public hearing is under section 1001 of the Internal Revenue Code.

The public comment period for these regulations expired on Tuesday, August 3, 2010. Outlines of topics to be discussed at the hearing were due on Wednesday, August 11, 2010. The notice of proposed rulemaking and notice of public hearing instructed those interested in testifying at the public hearing to submit an outline of the topics to be addressed. As of Tuesday, August 17, 2010, no one has requested to speak. Therefore, the public hearing scheduled for September 8, 2010, is cancelled.

LaNita Van Dyke,
Branch Chief, Publications and Regulations, Legal Processing Division, Associate Chief Counsel, (Procedure and Administration).

[FR Doc. 2010-20743 Filed 8-19-10; 8:45 am]

BILLING CODE 4830-01-P